DEPARTMENT OF THE TREASURY

Multiemployer Pension Plan Application To Reduce Benefits

AGENCY: Department of the Treasury.

ACTION: Notice and request for comment; reopening of comment period.

SUMMARY: On October 27, 2020, the Department of the Treasury (Treasury) published a notice of availability and request for comments regarding an application to Treasury to reduce benefits under the Carpenters Pension Trust Fund-Detroit & Vicinity Pension Fund (Fund), in accordance with the Multiemployer Pension Reform Act of 2014 (MPRA). The purpose of this notice is to reopen the comment period for the Fund's application and provide more time for interested parties to provide comments.

DATES: Treasury is reopening the comment period for the notice regarding the Fund entitled “Multiemployer Pension Plan Application to Reduce Benefits Comments,” which was published in the Federal Register on October 27, 2020, (85 FR 68120). Treasury will accept comments received on this notice on or before April 9, 2021.

ADDRESSES: You may submit comments electronically through the Federal eRulemaking Portal at http://www.regulations.gov, in accordance with the instructions on that site. Commenters are strongly encouraged to submit public comments electronically. Treasury expects to have limited personnel available to process public comments that are submitted on paper through mail. Until further notice, any comments submitted on paper will be considered to the extent practicable.

Comments may also be mailed to the Department of the Treasury, MPRA Office, 1500 Pennsylvania Avenue NW, Room 1224, Washington, DC 20220, Attn: Danielle Norris. Comments sent via facsimile, telephone, or email will not be accepted.

Additional Instructions. All comments received, including attachments and other supporting materials, will be made available to the public. Do not include any personally identifiable information (such as your Social Security number, name, address, or other contact information) or any other information in your comment or supporting materials that you do not want publicly disclosed. Treasury will make comments available for public inspection and copying on www.regulations.gov or upon request. Comments posted on the internet can be retrieved by most internet search engines.

FOR FURTHER INFORMATION CONTACT: For information regarding the application from the Fund, please contact Treasury at (202) 622-1534 (not a toll-free number).

SUPPLEMENTARY INFORMATION: MPRA amended the Internal Revenue Code to permit a multiemployer plan that is projected to have insufficient funds to reduce pension benefits payable to participants and beneficiaries if certain conditions are satisfied. In order to reduce benefits, the plan sponsor is required to submit an application to the Secretary of the Treasury, which must be approved or denied in consultation with the Pension Benefit Guaranty Corporation (PBGC) and the Department of Labor.

On September 29, 2020, the Fund's Board of Trustees submitted an application for approval to reduce benefits under the plan. As required by MPRA, that application has been published on Treasury's website at https://home.treasury.gov/services/the-multiemployer-pension-reform-act-of-2014/applications-for-benefit-suspension. On October 27, 2020, Treasury published a notice in the Federal Register (85 FR 68120), in consultation with PBGC and the Department of Labor, to solicit public comments on all aspects of the Fund's application. The comment period in the notice published on October 27, 2020, closed on December 11, 2020.

This notice announces the reopening of the comment period on the Fund's application with respect to the notice published on October 27, 2020, until April 9, 2021, in order to give additional time for interested parties to provide comments.

Mark J. Mazur,
Deputy Assistant Secretary for Tax Policy.

[FR Doc. 2021-05002 Filed 3-9-21; 8:45 am]

BILLING CODE 4810-AK-P